DEPARTMENT OF LABOR

Occupational Safety and Health Administration

[Docket No. OSHA-2011-0008]

Standard on Commercial Diving Operations; Extension of the Office of Management and Budget's (OMB) Approval of Information Collection (Paperwork) Requirements

AGENCY: Occupational Safety and Health Administration (OSHA), Labor.

ACTION: Request for public comments.

SUMMARY: OSHA solicits public comments concerning its proposal to extend OMB approval of the information collection requirements specified in the Standard on Commercial Diving Operations (29 CFR part 1910, subpart T).

DATES: Comments must be submitted (postmarked, sent, or received) June 8, 2015.

ADDRESSES: Electronically: You may submit comments and attachments electronically at http://www.regulations.gov, which is the Federal eRulemaking Portal. Follow the instructions online for submitting comments.

Facsimile: If your comments, including attachments, are not longer than 10 pages you may fax them to the OSHA Docket Office at (202) 693-1648.

Mail, hand delivery, express mail, messenger, or courier service: When using this method, you must submit a copy of your comments and attachments to the OSHA Docket Office, Docket No. OSHA-2011-0008, U.S. Department of Labor, Occupational Safety and Health Administration, Room N-2625, 200 Constitution Avenue NW., Washington, DC 20210. Deliveries (hand, express mail, messenger, and courier service) are accepted during the Department of Labor's and Docket Office's normal business hours, 8:15 a.m. to 4:45 p.m., e.t.

Instructions: All submissions must include the Agency name and the OSHA docket number (OSHA-2011-0008) for the Information Collection Request (ICR). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download from the Web site. All submissions, including copyrighted material, are available for inspection and copying at the OSHA Docket Office. You may also contact Theda Kenney at the address below to obtain a copy of the ICR.

FOR FURTHER INFORMATION CONTACT: Theda Kenney or Todd Owen, Directorate of Standards and Guidance, OSHA, U.S. Department of Labor, Room N-3609, 200 Constitution Avenue NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accord with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

The following provisions of the Commercial Diving Operations Standards (the “Standards”) contain paperwork requirements: §§ 1910.401(b); 1910.410(a)(3) and (a)(4); 1910.420(a) and (b); 1910.421(b), (f), and (h); 1910.422(e); 1910.423(b)(1)(ii) through (b)(2), (d), and (e); 1910.430(a), (b)(4), (c)(1)(i), (c)(3)(i), (f)(3)(ii), and (g)(2); and 1910.440(a)(2) and (b). These provisions require that employers: Notify OSHA if they deviate from the operational requirements of the Standards; train every diver in cardiopulmonary resuscitation and first aid, and mixed-gas divers (and those who control exposure of divers to mixed-gas breathing conditions) in diving-related physics and physiology; develop and make available to employees a safe practices manual; maintain a list of emergency telephone or call numbers at the diving location; brief dive team members on diving-related tasks, safety procedures, hazards, and revisions to operating procedures; display a code flag “A” if diving from a surface other than a vessel in navigable waters; develop and maintain a depth-time profile for each dive; and instruct divers on reporting diving-related illnesses and injuries, and the procedures specified for detecting, treating, and preventing these problems.

The Standards also mandate that employers: Record and maintain diving logs that contain required information; investigate and provide a written evaluation of, any incident involving decompression sickness; mark diving umbilicals as required; inspect, test, and calibrate specified diving equipment; record modifications, repairs, tests, calibrations, and maintenance performed on any diving equipment; make a record of diving-related injuries and illnesses that result in a diver remaining in a hospital for over 24 hours; and create, and disclose to specified parties on request, the written records required by the Standard, and maintain these records for specified periods.

The Standards' paperwork requirements allow employers to deviate from established diving practices and tailor diving operations to unusually hazardous diving conditions, and to analyze diving records (including hospitalization and treatment records) for information they can use to improve diving operations. These requirements are also a direct and efficient means for employers to inform dive-team members about diving-related hazards, procedures to use in avoiding and controlling these hazards, and recognizing and treating diving-related illnesses and injuries. Additionally, employers can review equipment records to ensure that employees performed the required actions, and that the equipment is in safe working order.

Disclosing these records to employees and their designated representatives permits them to identify operational and equipment conditions that may contribute to diving accidents or diving-related medical conditions.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting an adjustment decrease of 81 burden hours from 205,096 to 205,015 hours. The Agency is no longer calculating burden hours or costs for employers who provide information to the compliance officers during an OSHA inspection; inspections are outside the scope of PRA-95. The Agency will summarize any comments submitted in response to this notice and will include this summary in the request to OMB.

Type of Review: Extension of a currently approved collection.

Title: Commercial Diving Operations Standard (29 CFR part 1910, subpart T).

OMB Control Number: 1218-0069.

Affected Public: Businesses or other for-profits; Not-for-profit institutions; Federal Government; State, Local or Tribal Governments.

Number of Respondents: 3,000.

Frequency of Responses: On occasion; annually.

Total Responses: 3,996,377.

Average Time per Response: Varies from five minutes (.08 hour) for employers to maintain records to 12 hours for employers to update their compliance plans.

Estimated Total Burden Hours: 205,015.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (fax); or (3) by hard copy. All comments, attachments, and other material must identify the Agency name and the OSHA docket number (Docket No. OSHA-2011-0008) for the ICR. You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350, (TTY (877) 889-5627). Comments and submissions are posted without change at http://www.regulations.gov. Therefore, OSHA cautions commenters about submitting personal information such as social security numbers and date of birth. Although all submissions are listed in the http://www.regulations.gov index, some information (e.g., copyrighted material) is not publicly available to read or download from this Web site.

All submissions, including copyrighted material, are available for inspection and copying at the OSHA Docket Office. Information on using the http://www.regulations.gov Web site to submit comments and access the docket is available at the Web site's “User Tips” link. Contact the OSHA Docket Office for information about materials not available from the Web site, and for assistance in using the Internet to locate docket submissions.

V. Authority and Signature

David Michaels, Ph.D., MPH, Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on April 2, 2015.
David Michaels,
Assistant Secretary of Labor for Occupational Safety and Health.

[FR Doc. 2015-07937 Filed 4-6-15; 8:45 am]

BILLING CODE CODE 4510-26-P